DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 seq.), this notice announces that the Information Collection abstracted below has been forwarded to the Office of Management and Budget (OMB) for review and approval. The nature of the information collection is described as well as its expected burden. The Federal Register Notice with a 60-day comment period soliciting comments on the following collection of information was published on December 12, 2003. No comments were received.

DATES: Comments must be submitted on or before April 16, 2004.

FOR FURTHER INFORMATION CONTACT: Patricia Ann Thomas, Maritime Administration, 400 7th Street SW., Washington, DC 20590. Telephone: (202) 366-2646; FAX: (202) 493-2180, or e-mail: patricia.thomas@marad.dot.gov. Copies of this collection also can be obtained from that office.

SUPPLEMENTARY INFORMATION: Maritime Administration (MARAD).

Title: Merchant Marine Medals and Awards.

OMB Control Number: 2133-0506.

Type of Request: Extension of currently approved collection.

Affected Public: Masters, officers and crew members of U.S. ships.

Forms: None.

Abstract: This information collection provides a method of awarding merchant marine medals and decorations to masters, officers, and crew members of U.S. ships in recognition of their service in areas of danger during the operations by the Armed Forces of the United States in World War II, Korea, Vietnam, and Operation Desert Storm.

Annual Estimated Burden Hours: 1200 hours.

ADDRESSES: Send comments to the Office of Information and Regulatory Affairs, Office of Management and Budget, 725 17th Street, NW., Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: March 12, 2004.
Joel C. Richard,
Secretary, Maritime Administration.

[FR Doc. 04-5993 Filed 3-16-04; 8:45 am]

BILLING CODE 4910-81-P